DEPARTMENT OF HOMELAND SECURITY

Privacy Office; Privacy Act of 1974; System of Records

AGENCY: Privacy Office, DHS.

ACTION: Notice of Privacy Act system of records.

SUMMARY: In accordance with the requirements of the Privacy Act of 1974, the Privacy Office of the Department of Homeland Security (DHS) is giving notice that it proposes to implement a new system of records entitled “Oral History Program: The History of the Department of Homeland Security.” This system will consist of information that is created and used by the DHS Office of Public Affairs (OPA) in creating and maintaining the history of DHS. The system will allow OPA to store and retrieve information pertaining to DHS employees and former employees, including political appointees, civilian and military personnel assigned or detailed to DHS, and other individuals who volunteer to be interviewed for the purpose of providing information for this history. No exemptions are claimed for this system.

DATES: Comments must be received on or before November 22, 2004 to be assured of consideration. This notice will be effective September 22, 2004.

ADDRESSES: You may submit comments, identified by [docket number DHS-2004-0004], by any of the following methods:

• Federal e-Docket Portal: http://docket.epa.gov/edkfed/index.jsp. Follow the instructions for submitting comments.

• Mail: Nuala O'Connor Kelly, Chief Privacy Officer, Department of Homeland Security, Washington, DC 20528.

All submissions received must include the agency name and docket number. All comments received will be posted without change to http://docket.epa.gov/edkfed/index.jsp, including any personal information provided.

FOR FURTHER INFORMATION CONTACT: Elizabeth Withnell, (202) 772-5015.

SUPPLEMENTARY INFORMATION:

Statutory Basis

5 U.S.C. 301; 5 U.S.C. 552a; 44 U.S.C. 3101.

Background

The Department of Homeland Security's Office of Public Affairs (OPA) is responsible for DHS public outreach and media relations. In that capacity, it frequently receives inquiries from the public, the media, and other organizations regarding the history of DHS. In order to facilitate this exchange and promote an accurate and complete portrayal of DHS history, the OPA has engaged the services of a Departmental Historian who is developing a complete history of the department by conducting interviews with the individuals who participated in its creation and development.

This system of records contains personal information about individuals (i.e., names, addresses, etc.) that is retrieved by a personal identifier. Therefore, the Privacy Act of 1974, as amended, requires publication of a notice in the Federal Register announcing the existence and character of the system of records and its routine uses. A “Report on a New System,” required by 5 U.S.C. 552a(r), as implemented by Office of Management and Budget (OMB) Circular A-130, was sent to: the Chair, Senate Committee on Governmental Affairs; the Chair, House Committee on Government Reform; and the Administrator, Office of Information and Regulatory Affairs, OMB on or before September 22, 2004.

Nuala O'Connor Kelly,

Chief Privacy Officer.

DEPARTMENT OF HOMELAND SECURITY

SYSTEM NAME:

Oral History Program: The History of the Department of Homeland Security (DHS).

SYSTEM LOCATION:

U.S. Department of Homeland Security, Office of Public Affairs, Washington, DC 20528.

CATEGORIES OF INDIVIDUALS COVERED BY THE SYSTEM:

DHS employees and former employees, including political appointees, civilian, and military personnel assigned or detailed to the DHS, and other individuals who volunteer to be interviewed for the purpose of providing information for a history of DHS.

CATEGORIES OF RECORDS IN THE SYSTEM:

Records consist of oral history interviews that are stored on magnetic tape. Records may also include transcriptions of some or all of the interviews and photographs of some or all of the interviewees.

Interviews may include: a brief summary of the interviewee's biographical information; the interviewee's occupational background and position(s) at DHS; the interviewee's personal account and recollection of the events of September 11, 2001; the interviewee's account of the establishment and history of the Department; and the interviewee's comments on the major issues dealt with during DHS employment.

AUTHORITY FOR MAINTENANCE OF THE SYSTEM:

44 U.S.C. 3101.

PURPOSE(S)

Interviews are conducted to support the DHS policy to inform its current and future leadership and employees, and the U.S. public, about the history of the Department. Interviews may be used as resource documents in preparing news releases or other public information material and may be used to respond to queries from government officials or members of the public.

ROUTINE USES OF RECORDS MAINTAINED IN THE SYSTEM, INCLUDING CATEGORIES OF USERS AND THE PURPOSE OF SUCH USES:

In addition to those disclosures generally permitted under 5 U.S.C. 552a(b) of the Privacy Act, all or a portion of these records or information contained therein may specifically be disclosed outside DHS as a routine use pursuant to 5 U.S.C. 552a(b)(3) as follows:

(1) To the Government Printing Office or other publishing offices for production of a final document;

(2) To the news media and the public, unless it is determined that release of the specific information would constitute an unwarranted invasion of personal privacy;

(3) To the Department of Justice for the purpose of representing the DHS or any officer, employee, or member of the Department in pending or potential litigation to which the record is relevant and necessary to the litigation;

(4) To a Congressional office from the record of an individual in response to an inquiry from the Congressional office made at the request of that individual;

(5) To the National Archives and Records Administration for records management inspections conducted under the authority of 44 U.S.C. 2904 and 2906;

(6) To contractors, grantees, experts, consultants, students, and others performing or working on a contract, service, grant, cooperative agreement, or other assignment for the Federal Government, when necessary to accomplish an agency function related to this system of records;

(7) To the National Archives and/or other government libraries in order to respond to inquiries about DHS.

POLICIES AND PRACTICES FOR STORING, RETRIEVING, ACCESSING, RETAINING, AND DISPOSING OF RECORDS IN THE SYSTEM:

STORAGE:

These records are maintained on magnetic tape. Transcripts of interviews may also be maintained in paper or electronic format.

RETRIEVABILITY:

Information may be retrieved by subject, by the interviewee's surname, or by the interviewee's DHS employment position title.

SAFEGUARDS:

The records are stored in a secure, guarded, gated facility, at which a badge must be shown to enter. The records may be accessed and used by employees only if there is a need to know the information to perform official duties or with permission of the DHS Historian.

RETENTION AND DISPOSAL:

DHS has sought an appropriate retention schedule from the National Archives and Records Administration. Until that schedule is approved, neither the recorded tapes nor any transcriptions may be destroyed.

SYSTEM MANAGER AND ADDRESS:

Historian, U.S. Department of Homeland Security, Office of Public Affairs, Washington, DC 20528.

NOTIFICATION PROCEDURE:

Address inquiries to the System Manager named above.

RECORD ACCESS PROCEDURE:

A request for access to records in this system may be made by writing to the System Manager, identified above, in conformance with 6 CFR Part 5, Subpart B, which provides the rules for requesting access to Privacy Act records maintained by DHS.

CONTESTING RECORD PROCEDURES:

Same as “Records access procedure.”

RECORD SOURCE CATEGORIES:

Information in this system of records is obtained from interviews granted on a voluntary basis to the Historian and the Historian's staff.

EXEMPTIONS CLAIMED FOR THE SYSTEM:

None.

Dated: September 13, 2004.
Nuala O'Connor Kelly,
Chief Privacy Officer.

[FR Doc. 04-21279 Filed 9-21-04; 8:45 am]

BILLING CODE 4410-10-P